DEPARTMENT OF HEALTH AND HUMAN SERVICES

Health Resources and Services Administration

Fiscal Year 2004 Competitive Application Cycle for the Healthy Communities; Access Program Demonstration Project (HCAPDP), CFDA Number 93.890; HRSA 04-107

AGENCY: Health Resources and Services Administration, HHS.

ACTION: Notice of availability of funds.

SUMMARY: The Health Resources and Services Administration (HRSA) announces the availability of up to $5,400,000 to support 6-8 HCAP Demonstration Projects to eligible entities for the purpose of: (1) Developing patient-based research infrastructure at historically black health professional schools, which have an affiliation, or affiliations, with any of the providers identified in section 340(j) of the Public Health Service Act, subsection (b)(1)(B); (2) establishment of joint and collaborative programs of medical research and data collection between historically black health professional schools and such providers, whose goal is to improve the health status of medically underserved populations; or (3) supporting the research-related costs of patient care, data collection, and academic training resulting from such affiliations.

For purposes of this demonstration, a HBHPS is defined as any Historically Black College or University (HBCU) that has a school of medicine, dentistry, nursing and/or behavioral health.

Authorizing Legislation: The Healthy Communities Access Program (HCAP) Demonstration Project is authorized under section 340(j) of the Public Health Service Act, as amended (Health Care Safety Net Amendments of 2002, Public Law 107-251, 42 U.S.C. 256).

DATES: The intended timelines for application submission, review and award are as follows:

Application Deadline: August 20, 2004.

Grant Awards Announced: September 15, 2004.

Applications will be considered as meeting the deadline if they are: (1) Received on or before the established date and received in time for the Independent Committee Review; or (2) E-marked on or before the deadline date given in the Federal Register Notice. Late applications will be returned to the applicant. Applicants should obtain a legibly dated receipt from a commercial carrier or the U.S. Postal Service or request a legibly dated U.S. Service postmark. Private metered postmarks shall not be accepted as proof of timely mailing. Applicants sent to any address other than that specified below are subject to being returned.

Application Requests: To receive a complete application kit (i.e., application instructions, necessary forms, and application review criteria), contact the HRSA Grants Application Center at: The HRSA Grants Application Center, The Legin Group, Inc., Attn: HCAP Demonstration Project, Program Announcement No: HRSA 04-107, CFDA No. 93.890, 901 Russell Avenue, Suite 450, Gaithersburg, Maryland 20879, telephone: (877)-477-2123, fax: (877)-477-2345, e-mail: hrsagac@hrsa.gov.

When contacting the HRSA Grants Application Center (GAC) please use the following program announcement when requesting application materials: HRSA 04-107.

Eligible Applicants:For an entity to be eligible to compete for a HCAP Demonstration Project, the applicant entity must:

• Be a Historically Black Professions School [defined as any HBCU that has a school of medicine, dentistry, nursing, and/or behavioral health]; and

• Have an affiliation, or affiliations, with the providers identified in subsection (b)(1)(B) of section 340 of the Public Health Act. This includes the following:

• A Federally Qualified Health Center (as defined in section 1861(aa) of the Social Security Act (42 U.S.C. 1395x(aa));

• A hospital with a low-income utilization rate (as defined in section 1923(b)(3) of the Social Security Act (42 U.S.C. 1396r-4(b)(3)), that is greater than 25 percent;

• A public health department; or

• An interested public or private sector health care provider or an organization that has traditionally served the medically uninsured and underserved.

Application Review and Funding Criteria

The following criteria will be used by the Independent Review Committee (IRC) to assess each HCAP application. The HCAP Demonstration Project has 6 review criteria:

Criteria #1—Introduction—10 Points

• Does the applicant describe the purpose of the proposed HCAP Demonstration?

• Is there evidence that the Demonstration addresses one or more of the purposes of the HCAP Demonstration Project?

• Does the applicant propose 2-4 projects that collectively contribute to the overall Demonstration?

• Is the HCAP provider partnering to conduct the Demonstration clearly identified?

• Does the applicant explain how the findings of the Demonstration will advance and sustain a patient-based research infrastructure by establishing joint and collaborative programs of health research and data collection between community-based primary health care HCAP provider(s) and HBHPS to improve health status of medically underserved populations?

• Is there a description of existing partnerships with other research-intensive institutions such as the National Institute of Health (NIH-Project EXPORT Center of Excellence grants), Agency for Healthcare Research and Quality (AHRQ—Minority Research Infrastructure Support Program), and National Institute of Nursing Research (NINR—Nursing Partnership Centers on Health Disparities)?

Criteria #2—Response—30 Points

a. Project Narrative and Focus Area

• Does the applicant propose 2-4 projects that focus on one or more of the infrastructure-building components of the HCAP Demonstration Project (Primary Care Research, Faculty Development, and/or Clinical Information Systems)?

• Does the applicant clearly demonstrate the feasibility and scope of each proposed project?

• Is the Demonstration Project interdisciplinary? Does it focus on patient-based, primary care research in community-based settings?

• Are the conceptual framework, design, methods, and analyses adequately developed, well integrated, and appropriate to the aims of each project of the Demonstration?

• Does the applicant acknowledge potential problem areas and consider alternative tactics?

• Does the applicant present details of project implementation and descriptions of how each project will develop/strengthen one or more of the three-specific infrastructure building components outlined in the Project Narrative (Primary Care Research, Faculty Development, and Clinical Information Systems)?

• Is each individual project within the Demonstration thematic, highly focused, and interrelated so that they collectively contribute to the goals of the Demonstration Project to a greater extent than if the projects undertaken as individual components were pursued separately?

• Does the applicant provide a clear description of each proposed project, including major goals and objectives as well as how it integrates with the other project components in relation to the overall Demonstration Project?

• Does the applicant enhance the plan by describing existing partnerships with other research-intensive institutions such as the National Institutes of Health (NIH-Project EXPORT Center of Excellence grants), Agency for Healthcare Research and Quality (AHRQ—Minority Research Infrastructure Support Program), and National Institute of Nursing Research (NINR—Nursing Partnership Centers on Health Disparities)?

• Does the applicant propose any pilot projects? If so, does the applicant provide specific information that enables adequate scientific evaluation by the objective review committee?

b. Project Work Plan

• Does the applicant provide a project work plan that depicts the relationship between activities (including MIS-related activities if applicable), goals, objectives, responsible organization(s), timelines and measures of success for each project described in the Project Narrative?

• Does the project work plan summarize project activities, its related goals, objectives, responsible member(s) (i.e., HCAP provider, HBHPS, or other project member), action steps and timeline proposed to complete each project described in the Project Narrative?

• Are the proposed objectives for each project specific, measurable, achievable and tied to realistic steps and time-lines?

• Are the proposed measures of success for each project appropriate for the specified goals and objectives?

• In reviewing the specific “responsible member(s)” listed for each project of the Demonstration, do the assigned tasks provide evidence of input and involvement from all members of the stated HCAP Demonstration?

• Do the activities, goals and objectives of each project appear aligned with and appropriate for the proposed budget and the applicant's resources and capabilities?

c. Management Information Systems

• Are the applicant's total MIS-related expenses greater than $100,000 of the total HCAP Federal funds requested? If so, did the applicant submit a completed MIS Specific Budget form?

• Does the applicant only propose “enhancements” of an existing MIS, and not the “development” of a new MIS?

• For enhancements of an existing MIS only, does the applicant adequately:

i. Describe the functionality of the MIS component and how it will address the overall goals and needs of the HCAP Demonstration Project?

ii. List the number and type of HCAP demonstration project members that will be users of the planned or enhanced MIS system?

iii. Provide a description of (if existing) the current MIS and proposed enhancements, specifically discussing:

• Plans to manage data, including how the enhanced system will complement other systems in the organizations?

• Plans to create or purchase software?

• Compliance with Health Insurance Portability and Accountability Act (HIPAA) requirements for patient privacy and confidentiality, and security plans?

• Connectivity: i.e., use of wide area networks, web-based access, smart cards and expanded connections to existing mainframe systems?

Criteria #3—Evaluate Measures—20 Points

• Is there an appropriate plan in place for evaluating the projects carried out under the Demonstration?

• Are the goals and objectives of each project within the Demonstration clear, concise and appropriate?

• Are the objectives of each project time-framed and measurable?

• Are the proposed activities of each project capable of attaining goals and objectives?

• Does the applicant present a plan for collecting input from all collaborators of the Demonstration (HBHPS and HCAP providers) to monitor the progress of achieving goals and measurable objectives of each project?

• Does the applicant present a sound evaluation plan for each project and the overall Demonstration?

• Is it clear how the applicant will make changes to the Demonstration based on evaluation findings?

Criteria #4—Impact—10 Points

Does the applicant address the extent and effectiveness of plans for dissemination of the Demonstration results and/or the extent to which the Demonstration results may be regional or national in scope and/or the degree to which the projects of the Demonstration are replicable? Specifically, does the applicant:

• Provide a publication and dissemination plan for each project of the Demonstration?

• Describe how the Demonstration findings will be applicable to more than one situation?

Criteria #5—Resources/Capabilities—20 Points

• Does the applicant describe the extent to which personnel are qualified by training and/or experience to implement and carry out the Demonstration to assure that all proposed projects of the Demonstration would function optimally and in an interactive, synergistic manner?

• Does the applicant describe the capabilities of the HCAP provider in carrying out the Demonstration?

• Is the work proposed for the Demonstration appropriate to the experience level of the personnel?

• Is there documentation of the capabilities of the applicant organization and the quality and availability of facilities and personnel to fulfill the needs and requirements of the Demonstration?

• Has the applicant designated an institutional official to serve as the Principal Investigator for the Demonstration?

• Has the applicant designated a lead coordinator for each project of the Demonstration?

• Are the plans of the project staff to manage the overall planning activities adequate?

• Is there appropriate justification for the project staff, including the duplication of existing resources or services and anticipated future use of project staff?

• Are the provisions for day-to-day oversight, coordination, support and logistical services sufficient for each project to yield success?

• Is there evidence that the Principal Investigator and key staff of the partnering HCAP providers are working closely together to develop the application?

• Does the project have a Coordinating Council, and if so, have the composition and function been adequately described?

• Are there plans for developmental activities, including recruitment and expansion, insofar as the proposed projects of the Demonstration and/or training?

• Are there letters of support/commitment from a HCAP consortium supporting the planning activities?

Criteria #6—Support Requested—10 Points

Assess the reasonableness of the proposed budget and the requested period of support in relation to the objectives, the complexity of the proposed projects of the Demonstration, and anticipated results.

• The extent to which costs, as outlined in the budget and required resources sections are reasonable given the scope of work.

• The extent of to which the budget line items are well described and justified in the Budget Justification.

• The extent to which key personnel have adequate time devoted to each project to achieve project activities.

• Does the applicant budget travel of 3 Demonstration personnel for 1-2 HCAP Demonstration Project grantee meetings?

Estimated Amount of Available Funds: Up to $ 5,400,000 will be available in fiscal year 2004 for this program.

Estimated Project Period: Up to 3 years.

Estimated Number of Awards: It is estimated that 6-8 awards will be issued.

Cost Sharing/Matching: There is no cost sharing/matching requirement.

FOR FURTHER INFORMATION CONTACT: Cicely Nelson, Public Health Analyst, Division of Health Center Development, Attn: Healthy Communities Access Program, Bureau of Primary Health Care, HRSA, 4350 East West Highway, 3rd floor, Bethesda, Maryland 20814, telephone: (301) 594-4496, fax: (301) 594-4997, e-mail: Cnelson@hrsa.gov.

Executive Order 12372: This program has been determined to be subject to provisions of Executive Order 12372, as implemented by 45 CFR part 100. Executive Order 12372 allows States the option of setting up a system for reviewing applications from within their States for assistance under certain Federal programs. The Form PHS 5161 contains a listing of States that have set up a review system and will provide a State Point of Contact (SPOC) in the State for the review. A list of SPOC contacts is also available at http://www.whitehouse.gov/omb/grants/spoc.html. Applicants (other than federally-recognized Indian tribal governments) should contact their SPOCs as early as possible to alert them to the prospective applications and receive any necessary instructions on the State process. For proposed projects servicing more than on State, the applicant is advised to contact the SPOC of each affected State. The due date for State process recommendations is 60 days after the application deadline for new and competing awards. The granting agency does not guarantee to “accommodate or explain” for State process recommendations it receives after that date. (See part 148, Intergovernmental Review of Public Health Service Programs under Executive Order 12372 and 45 CFR part 100 for a description of the review process and requirements.)

Dated: July 2, 2004.
Stephen R. Smith,
Senior Advisor to the Administrator.

[FR Doc. 04-15606 Filed 7-6-04; 3:44 pm]

BILLING CODE 4165-15-P